ENVIRONMENTAL PROTECTION AGENCY

[OPPTS-00671; FRL-6599-7]

National Action Plan for Octachlorostyrene; Notice of Availability and Solicitation of Public Comment

AGENCY: Environmental Protection Agency (EPA).

ACTION: Notice of availability and solicitation of public comment.

SUMMARY: EPA has developed a draft National Action Plan to promote further voluntary reductions of release and exposure to octachlorostyrene (OCS). This chemical is a persistent, bioaccululative and toxic halogenated aromatic compound with no known commercial uses. It is, however, an inadvertent by-product that persists in the environment and bioaccumulates in animal tissue. This plan was developed pursuant to the Agency's Multimedia Strategy for Priority Persistent, Bioaccumulative, and Toxic (PBT) Pollutants. This Notice announces the availability of the draft Octachlorostyrene National Action Plan for public review and comment.

DATES: Comments, identified by docket control number OPPTS-00671, must be received on or before September 25, 2000.

ADDRESSES: Comments may be submitted by mail, electronically, or in person. Please follow the detailed instructions for each method as provided in Unit I. of the SUPPLEMENTARY INFORMATION. To ensure proper receipt by EPA, it is imperative that you identify docket control number OPPTS-00671 in the subject line on the first page of your response.

FOR FURTHER INFORMATION CONTACT: For general information contact: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

For technical information contact: Paul Matthai, Pollution Prevention Division (7409), Office of Pollution Prevention and Toxics, Environmental Protection Agency, 1200 Pennsylvania Ave., NW., Washington, DC 20460; telephone number: (202) 260-3385; e-mail address: matthai.paul@epa.gov.

SUPPLEMENTARY INFORMATION:

I. General Information

A. Does this Action Apply to Me?

This action is directed to the public in general. This action may, however, be of interest to persons who are involved in commercial or industrial process that combine carbon and chlorine at high temperatures. These processes could include magnesium production, commercial production of chlorinated solvents, aluminum plasma etching (used in producing microelectronic components), aluminum degassing with hexachloroethane, chlorination of titanium and niobium/tantalum ores, waste incineration, and chlor-alkali production with graphite anodes. Since other entities may also be interested, the Agency has not attempted to describe all the specific entities that may be affected by this action. If you have any questions regarding the applicability of this action to a particular entity, consult the technical person listed under FOR FURTHER INFORMATION CONTACT.

B. How Can I Get Additional Information, Including Copies of this Document or Other Related Documents?

1. Electronically. You may obtain electronic copies of this document, and certain other related documents that might be available electronically, from the EPA Internet Home Page at http://www.epa.gov/pbt. To access this document, on the PBT Home Page select “Strategy and Action Plans.”

2. In person. The Agency has established an official record for this action under docket control number OPPTS-00671. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 1200 Pennsylvania Ave., NW., Washington, DC. The Center is open from noon to 4 p.m., Monday through Friday, excluding legal holidays. The telephone number for the Center is (202) 260-7099.

C. How and to Whom Do I Submit Comments?

You may submit comments through the mail, in person, or electronically. To ensure proper receipt by EPA, it is imperative that you identify docket control number OPPTS-00671 in the subject line on the first page of your response.

1. By mail. Submit your comments to: Document Control Office (7407), Office of Pollution Prevention and Toxics (OPPT), Environmental Protection Agency, 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-00671. Electronic comments may also be filed online at many Federal Depository Libraries.

D. How Should I Handle CBI Information that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the technical person identified under FOR FURTHER INFORMATION CONTACT.

E. What Should I Consider as I Prepare My Comments for EPA?

We invite you to provide your views on the various options we propose, new approaches we have not considered, the potential impacts of the various options (including possible unintended consequences), and any data or information that you would like the Agency to consider during the development of the final action. You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Make sure to submit your comments by the deadline in this notice.

7. To ensure proper receipt by EPA, be sure to identify the docket control number assigned to this action in the subject line on the first page of your response. You may also provide the name, date, and Federal Register citation.

II. What Action is the Agency Taking?

On November 16, 1998, EPA released its Agency-wide Multimedia Strategy for Priority Persistent, Bioaccumulative, and Toxic (PBT) Pollutants (PBT Strategy). The goal of the PBT Strategy is to identify and reduce risks to human health and the environment from current and future exposure to priority PBT pollutants. This document serves as the Draft National Action Plan for Octachlorostyrene, one of the 12 Level 1 priority PBT pollutants identified for the initial focus of action in the PBT Strategy.

Octachlorostyrene (CAS Registry number 29082-74-4) is a persistent, bioaccumulative, and toxic halogenated aromatic compound with no known commercial uses and is not commercially manufactured. It has been reported as an inadvertent by-product of processes involving chlorine production, chlorination reactions, nonferrous metal production/finishing operations, and high temperature etching in semiconductor production. Landfill leachates from industrial wastes generated by these processes are contaminated with OCS. It may also result from various incineration and combustion processes.

The impact of OCS on the ecosystem is still largely unknown and data on the presence of OCS in the environment are limited. It is bioaccumulative and persistent in the environment. In the food chain, it has been found at increasingly higher concentration levels in higher order fish and shellfish. The feeding habits of aquatic species have been shown to be an important influence on OCS levels in fish, with significant biomagnification in higher order species. Potential human exposure pathways for OCS are through ingestion (especially of contaminated fish), inhalation, and absorption through the skin. Occupational exposure has been shown to result in elevated levels of OCS in the blood of workers at industrial facilities that produce OCS as a by-product. The human toxicological properties of OCS are not well known but it has been shown to cause adverse liver, thyroid, kidney and hematological effects in experimental animals. OCS is also a suspected hormone disruptor, mimicking human hormones and possibly affecting the endocrine system of humans and animals.

EPA is requesting public comment on this draft National Action Plan to address the risks to human health and the environment from exposure to octachlorostyrene: (1) By conducting monitoring through a National Study of Chemical Residues in Fish survey, sediment sampling in geographic areas with high concentrations, and by adding OCS to the list of chemicals to establish an air monitoring network; (2) to continue efforts toward source characterization and voluntary initiatives to reduce OCS releases; and (3) focus research to characterize the relationship between OCS and other chlorinated compounds such as hexachlorobenzene and dioxins/furans.

List of Subjects

Environmental protection.

Dated: August 8, 2000.
Susan H. Wayland,
Acting Assistant Administrator, Office of Prevention, Pesticides and Toxic Substances.

[FR Doc. 00-21783 Filed 8-24-00; 8:45 am]

BILLING CODE 6560-50-F